DEPARTMENT OF THE INTERIOR

Fish and Wildlife Service

50 CFR Part 18

RIN 1018-AH72

Import of Polar Bear Trophies From Canada: Change in the Finding for the M'Clintock Channel Population

AGENCY: Fish and Wildlife Service, Interior.

ACTION: Affirmation of emergency interim rule as final rule.

SUMMARY: The Fish and Wildlife Service is adopting the emergency interim rule published on January 10, 2001, as a final rule without substantive change. This rule amended our regulations, under the Marine Mammal Protection Act (MMPA), on the import of polar bears (Ursus maritimus) taken by sport hunters in the M'Clintock Channel population, Nunavut Territory, Canada. Current information indicates that this population has severely declined and harvest quotas have not ensured a sustainable population level. In the emergency interim rule, we found that the M'Clintock Channel population no longer meets the import requirements of the MMPA and amended our regulations to reflect that bears sport hunted in this population after the 1999/2000 Canadian hunting season will no longer be eligible for import under the 1997 finding which approved this population for multiple harvest seasons. In addition, the emergency interim rule updated our regulations to reflect the formation of the new territory of Nunavut and notified the public on the lifting by Canada of the harvest moratorium in the Viscount Melville Sound polar bear population. This final rule presents the best available information on the M'Clintock Channel population and addresses comments received on the emergency interim rule.

DATES: This final rule is effective on January 10, 2001.

FOR FURTHER INFORMATION CONTACT: Ms. Teiko Saito, Chief, Division of Management Authority, Fish and Wildlife Service, 4401 North Fairfax Drive, Room 700, Arlington, Virginia 22203; telephone (703) 358-2093; fax (703) 358-2280; e-mail fw9ia_dma@fws.gov.

SUPPLEMENTARY INFORMATION:

Background

The 1994 amendments to the MMPA (section 104(c)(5)(A)) allow for the issuance of permits to import sport-hunted polar bear trophies from Canada when we can make certain legal and biological findings. On February 18, 1997, we published regulations in the Federal Register (62 FR 7302) that established standards for the issuance of permits to allow the import of sport-hunted polar bear trophies (50 CFR 18.30). The regulations contain aggregate findings applicable for multiple harvest seasons for five populations, including M'Clintock Channel, as follows: (a) Canada has a sport-hunting program that allows us to determine before import that each polar bear was legally taken; (b) Canada has a monitored and enforced program that is consistent with the purposes of the 1973 International Agreement on the Conservation of Polar Bears; (c) Canada has a sport-hunting program that is based on scientifically sound quotas ensuring the maintenance of the affected population stock at a sustainable level for certain populations; and (d) the export of sport-hunted trophies from Canada and their subsequent import into the United States would be consistent with the Convention on International Trade in Endangered Species of Wild Fauna and Flora (CITES) and would not likely contribute to illegal trade of bear parts. In a subsequent final rule on January 11, 1999 (64 FR 1529), we made aggregate findings that approved two additional populations.

In Canada, management of polar bears has been delegated to the provinces and territories. However, the Canadian Wildlife Service (CWS), Canada's national wildlife agency, maintains an active research program and is involved in the management of populations that are shared between jurisdictions, particularly between Canada and other nations. In addition, Native Land Claims have resulted in co-management boards for most of Canada's polar bear populations. The Nunavut Wildlife Management Board (NWMB) is the main instrument of wildlife management in the Nunavut Settlement Area, while the Government of Nunavut (GNUN), through the Minister of Sustainable Development, retains the ultimate responsibility for both the conservation of wildlife and economic development in the Nunavut Territory. The co-management of Nunavut's polar bear populations also includes the CWS, regional wildlife organizations, and hunters and trappers organizations. The Federal/Provincial/Territorial Polar Bear Technical Committee (PBTC) and Polar Bear Administrative Committee meet annually to ensure a coordinated management process among these parties.

The basis of the Government of Northwest Territories (GNWT) and GNUN polar bear management program is that the human-caused killing of polar bears (e.g., harvest, defense, or incidental) must remain within the sustainable yield, with the anticipation of slow growth for any population. The program has several components including: (a) Use of scientific studies to determine and monitor changes in population size and establish population boundaries; (b) involvement of the resource users and incorporation of traditional knowledge to enrich and complement scientific studies; (c) harvest data collection and a license tracking system; and (d) enforcement measures through regulations and management agreements.

Regulations and management agreements between the GNWT, GNUN, and Native Land Claim beneficiaries provide the rules for polar bear harvest in the Northwest Territories (NWT) and Nunavut. The hunting season opens August 1 and closes May 31 the following year. Except for defense kills, no harvest usually occurs before February. The hunting season is limited by factors such as the lack of sea ice, the number of daylight hours, and winter weather conditions. Sport hunts are typically conducted in the spring, between March and May. Sport hunting of polar bears is presently legal only in NWT and Nunavut and includes additional requirements. All sport hunts must be conducted under Canadian jurisdiction and be guided by a Native hunter. In addition, transportation during the hunt must be by dog sled, the tags must come from the community quota, and quota tags from unsuccessful sport hunts may not be used again. All bears taken by sport hunters must be accounted for within existing quota tags. Not all communities participate in sport hunting as it reduces hunting opportunities for local hunters. You should refer to the February 18, 1997 (62 FR 7302), and January 11, 1999 (64 FR 1529), rules for more extensive information on Canada's polar bear management program.

In an emergency interim rule effective and published in the Federal Register on January 10, 2001 (66 FR 1901), we amended our regulations under the MMPA in 50 CFR 18.30 on the import of polar bears taken by sport hunters in the M'Clintock Channel population, Nunavut, Canada. Under the Administrative Procedure Act (5 U.S.C. 551-553), our normal practice is to publish regulations with a 30-day delay in effective date. But in this case, we used the “good cause” exemptions under 5 U.S.C. 553(b) and (d)(3) to issue the emergency interim rule without first invoking the usual notice and public comment procedure and to make the rule effective upon publication for the following reasons: (1) Official information submitted by the government of Canada showed that the M'Clintock Channel population no longer meets the import requirements of the MMPA; (2) as a matter of fairness to the regulated community, it was necessary to put the public on notice immediately that bears sport hunted in the M'Clintock Channel population after May 31, 2000, would no longer be eligible for import under the finding which approved this population for multiple harvest seasons; and (3) it would be contrary to the public interest to maintain regulatory findings that purport to allow the import of these polar bear trophies when those findings are no longer consistent with the MMPA.

We are adopting the emergency interim rule as a final rule without substantive change. In the emergency interim rule, we found that the M'Clintock Channel population no longer meets the import requirements of the MMPA and amended our regulations to reflect that bears sport hunted in this population after May 31, 2000, the end of the 1999/2000 Canadian hunting season, will no longer be eligible for import under the 1997 finding which approved this population for multiple harvest seasons. In addition, the emergency interim rule updated our regulations to reflect the formation of the new territory of Nunavut and notified the public on the lifting by Canada of the harvest moratorium in the Viscount Melville Sound polar bear population.

The use of an emergency interim rule allowed us to take action based on the new information for the M'Clintock Channel population, quickly inform the public about the change to the regulations, and, at the same time, ask for comments from the public. We received comments on the emergency interim rule from the CWS, Conservation Force, Safari Club International (SCI), and the Humane Society of the U.S. (HSUS). We received submissions from the Department of Sustainable Development, GNUN, and the NWMB after the close of the comment period, and this information is presented in the preamble of this final rule because it clarifies historical information, population analysis, and current management of the M'Clintock Channel polar bear population. However, we note that, although the information was important in giving an accurate description of polar bear status and management in Nunavut, it did not affect the outcome of the final rule. Finally, comments were also provided by the Marine Mammal Commission (MMC) and its Committee of Scientific Advisors, as part of the consultative process required by the MMPA. Our summary and response to public comments are given in the sections in the preamble that discuss the issues.

What Is the Status of the M'Clintock Channel Polar Bear Population?

As described in our February 18, 1997 (62 FR 7302), final rule, Canada estimated the M'Clintock Channel population in the mid-1970s to be 900 polar bears based on a 6-year mark-recapture population study. According to the GNUN, this study was part of the first Territorial Government polar bear population inventory conducted in the Central Arctic. The existing mark-recapture population analysis models at that time were based on simplifying assumptions and did not have the benefit of current genetic and satellite telemetry technology. Originally, the M'Clintock Channel and Gulf of Boothia areas were not identified as distinct units and the combined estimate for these two “subpopulations” was 1,081 bears. Due to the known bias of non-representative sampling, the estimate was later increased to 900 for the M'Clintock Channel and 900 for the Gulf of Boothia, based on the assumption that harvests at that time were sustainable. Subsequently, local hunters advised that 700 might be a more accurate estimate for the M'Clintock Channel population. Under a Local Management Agreement between Inuit communities that share this population, the harvest quota for this area was revised to levels expected to achieve slow growth based on the population estimate of 700 polar bears. We approved this population although Canada considered the population estimate information as “poor.” We made this decision because Canada, in conjunction with the local communities, agreed to the reduction (from 900 to 700) in the population estimate, hunting had been at a 2 male to 1 female sex ratio for several years, and there was a management agreement in place.

Canada initiated a new study of the polar bear population in M'Clintock Channel in 1998 to assess the population size currently being used to calculate harvest quotas. At the 2000 PBTC meeting, the GNUN presented preliminary results of the mark-recapture analysis based on data collected during 1998 and 1999. Although cautioning that the results were incomplete, the polar bear managers estimated that the newly revised population size for the M'Clintock Channel population was between 360 and 390 bears, considerably lower than the previous estimate of 700. The GNUN considered the reliability of the new estimate “poor,” and noted that a more accurate estimate was to be calculated following the end of the 3-year mark-recapture study.

Following the end of the study in 2000, the GNUN provided us with preliminary results based on data collected in 1998, 1999, and 2000. The recalculated population estimate of polar bears in M'Clintock Channel was between 238 and 399 bears, with 288 as the best preliminary estimate. Based on this updated estimate, the GNUN recalculated the maximum sustainable harvest that would support the population at its current level, with no population growth, at 8 bears per year (4 males and 4 females). The quota since 1993 has been set at between 32 and 34 bears. The GNUN indicated that, at that rate of harvest, the population was declining and would be reduced to zero in 10 years. With no harvest, the population would increase at only 4 percent annually. Thus, recovery of this population will be slow and each year of over-harvest will delay recovery time by a minimum of 2 years. The GNUN noted that it would be evaluating future management goals for this population such as identifying a target population recovery level. At the 2001 PBTC meeting, the GNUN estimated that the time for an unharvested polar bear population to double is about 25 years, and indicated that a long-term moratorium may be necessary for the M'Clintock Channel population to recover its former numbers.

In 2001, the GNUN conducted more stringent analyses of the 1998 to 2000 mark-recapture data. Using two different stratified mark-recapture models, estimates of 455 (standard error = 215) and 243 (standard error = 49) bears were calculated for the M'Clintock Channel population. The GNUN was unable to produce satisfactory estimates using these models, which they attribute to capture heterogeneity. Based on an average of the best analysis models following Burnham and Anderson (1998), the GNUN calculated what they consider the current best estimate, 367 bears (standard error = 191), for the M'Clintock Channel population. We note that the GNUN's re-analysis of the base core population numbers resulted in an increase from the preliminary estimate of 288 bears, as reported in the emergency interim rule, to the current best estimate of 367 bears. This increase is not sufficient to remove our concern that the M'Clintock Channel population has been severely reduced, nor affect the outcome of this final rule. We consider the mid-1970's estimate of 900 bears to be the best information available for the historical baseline of this population. Even though each subsequent revision of the population estimate was considered “poor” by Canada, we have accepted the updated estimates as the best information available at the time. We conclude that the current best estimate of 367 bears indicates that the M'Clintock Channel population has severely declined over time, and is consistent with our findings in the emergency interim rule.

Further, the CWS reports that extensive new data analysis and field work need to be conducted before revisions to the population estimate for the M'Clintock Channel can be made. The GNUN suggests that at least 2 to 3 additional years of sampling will be required before accurate estimates of survival and population numbers can be obtained. The GNUN plans to continue the mark-recapture study and collect additional population data as early as 2002. The CWS has indicated that it will continue to provide new population information to us as it becomes available.

How Are Polar Bears Managed in the M'Clintock Channel Population?

The quota for the M'Clintock channel population, based on a population estimate of 700 bears, has been set at between 32 and 34 bears since 1993. At the time the emergency interim rule was published, Canada had made no adjustment to the quota to reflect the new population information since polar bears are co-managed with local communities through agreements and any modification requires community consultation. Discussions with local communities to develop the best plan of action were completed earlier this year.

On January 16, 2001, the Minister of Sustainable Development, GNUN, accepted the decision of the NWMB to reduce the quota for the M'Clintock Channel population to 12 polar bears (8 males and 4 females) for the 2000/2001 harvest year followed by a moratorium on harvest in 2001/2002. The NWMB based their decision on the community recommended quota of 12 animals and the available information that suggested if the full quota of 12 were taken for the 2000/2001 harvest season, the average harvest over the 2 years would be 6, which was within the harvest limits considered by Canada to be sustainable for the lowest population estimate. The GNUN explained that the quota reduction in 2000/2001 and harvest moratorium in 2001/2002 will provide time for further community consultation while protecting the population from additional decline.

The NWMB further explained that, as part of the co-management process, any change in the quota must not rely solely on scientific data but must also take into account traditional knowledge. The NWMB will work with their co-management partners to ensure traditional knowledge information is collected and integrated with the scientific information in order to better manage the M'Clintock Channel polar bear population. The NWMB also noted that both cultural and economic aspects must be taken into account in the recovery plan, as a small quota, even in a severely reduced population, may be used as an effective conservation measure. The GNUN agreed that enhanced economic value is a positive factor in co-management conservation strategy. Over the next year, the GNUN and NWMB will work with their co-management partners to assess the situation for the M'Clintock Channel population and develop a long-term strategy and recovery goals.

The SCI and Conservation Force recommended that our decision take into account the benefits of sport hunting which provide conservation incentives, management revenues, and income for the local communities. We recognize that, under certain conditions, sport hunting can be a useful management tool and Canada has incorporated it into their management program for polar bears. However, the MMPA requires us to consider not whether sport hunting is beneficial but whether Canada's management is based on scientifically sound quotas that ensure the maintenance of the population at a sustainable level. Long-term management programs based on sustainability will yield greater economic benefits than short-term programs that are not based on sound principles of resource optimization.

Although the SCI agreed that the current data indicate either a reduced population or a previous overestimate, they felt that our emergency interim rule was premature and arbitrary because it resulted in a complete loss of sport-hunting revenue for the local communities and interfered with the co-management process. SCI and NWMB suggested that we modify the emergency interim rule to allow the import of sport-hunted polar bears taken under the reduced quota because a complete ban on import would be an economic and cultural detraction to local people. We disagree with the SCI that our decision was arbitrary. Our decision was based on the best available information which indicates the M'Clintock Channel population has been severely reduced and that this population no longer meets the statutory criteria of the MMPA under which imports may be authorized. While we recognize Canada's co-management system, and its need to balance cultural, economic, and conservation concerns, we must make our decision on specific criteria in the MMPA set out by Congress. Indeed, we consider this population to have severely declined from its historical population of 900 bears, and so cannot make the finding that the population is being maintained at a sustainable level, even under the reduced quota. Under the purposes and conservation goals of the MMPA, once the population has declined so severely, any take of bears would not be considered sustainable. The reduced quota set by Canada may indeed keep this population from declining any further, but does not work toward recovering the population to its historical population. The GNUN has estimated that, with no harvest, the population would increase at only 4 percent annually and take about 25 years to double. Thus, it is clear that the recovery of the population will be slow and, even with a long-term moratorium, it will be many years before the M'Clintock Channel population will be able to recover its former numbers. The MMC agreed with us that it does not appear that the management of the M'Clintock population has been based on scientifically sound quotas ensuring the maintenance of the population at a sustainable level as required by the MMPA. We note that the GNUN wrote that its goal is the sustainable use of polar bear populations, and the MMPA import criteria do not conflict with its current or developing polar bear management policies. The GNUN plans to identify a target recovery level as it evaluates future management goals for this population.

The HSUS and MMC supported our decision to change the import status of the M'Clintock Channel polar bear population. However, the HSUS expressed concern that Canada failed to recognize the downward population trend of the M'Clintock Channel population. It believes this situation reflects on Canada's entire management program, and maintains there is no assurance that any of Canada's polar bear populations are being managed sustainably. The MMC recommended that Canada use more conservative population estimates in setting quotas and conduct more frequent, rigorous population assessments, especially for populations where the data is considered “fair” or “poor” in order to ensure that Canada's polar bear populations are being managed sustainably.

Although we have concerns about the M'Clintock Channel population, we disagree that the decline in this population implies that Canada is not managing their polar bear populations sustainably. Canada has a robust management program (see previous Federal Register notices (62 FR 7302 and 64 FR 1529), that is periodically reviewed by the PBTC and the IUCN (World Conservation Union) Polar Bear Specialist Group). There has been considerable discussion of Canada's population management, and Canada continues to look at new models and research data to better manage their polar bear populations. This adaptive management is important because polar bears are characterized by low reproductive potential, long life spans, low density, and wide distribution and are sensitive to harvest rates.

The GNUN emphasizes that the severe decline of the M'Clintock Channel population is not characteristic of Canada's management program and assures us that they are taking steps to correct the system. At the 2001 PBTC meeting, the GNUN presented a new management approach under development that they anticipate will reduce the frequency and impact of population reduction to more acceptable levels. The new approach, based on population viability analysis (PVA), considers the reproduction potential of the population, the uncertainty of the underlying demographic information, and statistical uncertainty when making harvest level determinations. The GNUN anticipates examining options that include scaling back harvest rates in small populations while performing more frequent inventories of larger populations. A systematic integration of traditional knowledge with scientific information through the development of a categorical range of harvest policies that incorporates the perceptions of the hunters is also planned. The GNUN anticipates that the enhanced PVA approach will help them to identify where they need to modify harvest levels, prior to the next population inventory, due to changing environmental conditions or optimistic population estimates.

Table 1 summarizes the polar bear harvest in the M'Clintock Channel population during the 1989/1990 to 1999/2000 harvest seasons. Sport harvest in M'Clintock Channel began in 1991 with no sport hunts conducted from 1992 through 1994. A total of 288 bears were harvested over the past 11 years, ranging from an annual harvest of 17 to 37 bears. Of these bears, 65 (57 male, 7 female, 1 unknown) were sport hunted. As of December 31, 2000, a total of 62 import permits, including for 3 pre-Amendment bears, had been issued for bears sport hunted from this population by U.S. citizens. Since the MMPA was amended in 1994 to allow for the import of certain sport-hunted trophies, the number of bears taken in sport hunts in M'Clintock Channel as a percentage of the total annual harvest has ranged from a low of 29 percent (1994/1995) to a high of 59 percent in 1999/2000.

Conservation Force commented that it was important that the sport-hunting community not be misrepresented or perceived negatively due to the population decline in the M'Clintock Channel and the NWMB related similar concerns from the Native community harvesters. As the NWMB emphasized, the decline was not the fault of the community harvesters as they have consistently adhered to their quotas, including the allocation of bears for sport hunting. As shown in Table 1, the total harvest of polar bears for all purposes did not exceed the annual quota nor did sport hunting increase the number of bears taken annually over the past 10 years.

Table 1.—Polar Bear Harvest in M'Clintock Channel
Season | Regular: M | Regular: F | Regular: U | Sport: M | Sport: F | Sport: U | Problem: M | Problem: F | Other: M | Other: F | Total: M | Total: F | Total: U | Total: T | Quota
1989/90 | 20 | 17 |  |  |  |  |  |  |  |  | 20 | 17 | 0 | 37 | *81
1990/91 | 12 | 15 | 1 |  | 1 | 1 | 2 |  |  |  | 14 | 16 | 2 | 32 | *85
1991/92 | 24 | 14 |  |  |  |  |  |  |  |  | 24 | 14 | 0 | 38 | 43
1992/93 | 11 | 8 |  |  |  |  | 1 |  |  |  | 12 | 8 | 0 | 20 | 28
1993/94 | 15 | 6 |  |  |  |  |  | 1 |  |  | 15 | 7 | 0 | 22 | 32
1994/95 | 5 | 3 |  | 5 |  |  |  |  | 1 | 3 | 11 | 6 | 0 | 17 | 32
1995/96 | 11 | 7 |  | 8 |  |  |  |  |  |  | 19 | 7 | 0 | 26 | 33
1996/97 | 6 | 6 |  | 15 | 1 |  |  |  |  |  | 21 | 7 | 0 | 28 | 32
1997/98 | 6 | 6 |  | 11 | 1 |  |  |  |  |  | 17 | 7 | 0 | 24 | 34
1998/99 | 9 | 4 |  | 8 | 1 |  |  |  |  |  | 17 | 5 | 0 | 22 | 32
1999/00 | 6 | 3 |  | 10 | 3 |  |  |  |  |  | 16 | 6 | 0 | 22 | 32
Total | 125 | 89 | 1 | 57 | 7 | 1 | 3 | 1 | 1 | 3 | 186 | 100 | 2 | 288 |
Regular=Community subsistence hunt.
Sport=Must be guided by Native hunter, part of community quota.
M=male; F=female; U=unsexed; T=total.
*Combined quota with the Gulf of Boothia population.

The GNUN estimates that female bears comprise 65 percent of the current sex ratio of the adult (age 3+) population in M'Clintock Channel. This suggests that the number of adult males has been reduced, so that any continuing harvest will likely be increasingly composed of adult females. Protection of the female component of the population was an important consideration in developing sustainable harvest limits. Any additional take of females will further prolong the recovery time for this population.

The HSUS expressed concern that the reduction in the number of large males in this population may affect the recovery of this population while Conservation Force asserted that sport hunting “* * * has had a minimal or no effect on the population reproduction.” We acknowledge that genetic viability, mate selection, and genetic vigor are not well documented for polar bears, and it is unclear how the reduction of large males affects a polar bear population. It is known that male polar bears are opportunistic breeders and do not contribute to the care of the young. So the loss of a male bear will generally have less of an impact on population recruitment than the loss of a female. Canada's selective harvest of 2 males to 1 female is utilized to conserve the population by reducing the impact of the harvest of females.

How Does the Change in the Finding for the M'Clintock Channel Population Affect Me?

We are adopting the emergency interim rule as a final rule without substantive change. The M'Clintock Channel will remain in the list of approved populations in 50 CFR 18.30(i)(1) only for polar bears sport hunted in this population on or before May 31, 2000, the close of the 1999/2000 Canadian hunting season. Any person who hunts in the M'Clintock Channel population between this closure date and the date of any future re-approval of this population will not be able to legally import the polar bear trophy into the United States.

This action was necessary because the CWS provided us with new information for the M'Clintock Channel polar bear population which indicated that the population is severely reduced and harvest quotas have not ensured a sustainable population level. The MMPA requires us to review the best scientific information available; if we receive substantial new information on a population, we must review it and make a new finding as to whether to continue to approve the population. The new information for the M'Clintock Channel population revealed that scientifically sound quotas ensuring the maintenance of the population at a sustainable level are not in place and that terms of the 1973 International Agreement on the Conservation of Polar Bears, that requires the Parties to “manage polar bear populations in accordance with sound conservation practices based on the best available scientific data” are not being met. The information also indicates that, even with remedial steps, the population will not likely recover for some time. We note that information received since the publication of the emergency interim rule is not sufficient to remove our concern that the M'Clintock Channel population has severely declined.

Conservation Force urged that we not do anything to obstruct future re-approval of this population, and the NWMB and SCI recommended that we reinstate the approval of the M'Clintock Channel population as soon as possible. We will continue to work with Canada to receive the most current data on the M'Clintock Channel polar bear population. When substantial new scientific and management data become available that indicate the status of this population has changed, we will review it and make a new finding as to whether the M'Clintock Channel population should be re-approved as a population eligible for the import of sport-hunted trophies.

SCI suggested that we keep the M'Clintock Channel listed as an approved population, subject to the lifting of the moratorium, consistent with the approach of how we initially approved the Viscount Melville Sound population in 1997. We do not agree for the following reasons. There was a 5-year voluntary moratorium on the take of polar bears in the Viscount Melville Sound population. It was lifted effective August 1, 1999, based on recent scientific management information Canada considered “good.” In contrast, the M'Clintock Channel population has severely declined and the GNUN has indicated that any harvest may delay the recovery of this population by more than 22 years. A reduced quota has been set for this harvest season, and the moratorium on harvest is currently in place only for the next season. The co-managers will use the harvest moratorium during next season to continue discussions on what the recovery level should be for this population and whether to allow a small quota during the recovery period.

The MMC agrees with our determination that the M'Clintock Channel population no longer meets the statutory criteria under which imports may be authorized and recommends that the emergency interim rule be adopted as a permanent rule.

What About the Approval of Other Polar Bear Populations?

The SCI urged that the Gulf of Boothia polar bear population be added as an approved population, based on new mark-recapture data available from the same study period (1998 to 2000) as the M'Clintock Channel. The NWMB also suggested we work together to approve the import of sport-hunted trophies from Nunavut polar bear populations that have not yet been approved. We note that the approval of the Gulf of Boothia or other polar bear populations is not the subject of this rulemaking. You should refer to the February 18, 1997 (62 FR 7302), and January 11, 1999 (64 FR 1529), rules for more information on why these populations were deferred. As indicated in these rulemakings, as future substantial scientific and management data become available on these populations, we will evaluate it to determine whether a proposed rule should be published that would add such populations to the approved list in § 18.30(i)(1). The GNUN presented preliminary results of a 3-year mark-recapture study for the Gulf of Boothia population at the 2001 PBTC meeting. Although they indicated that this population appears to have remained abundant and productive, they recognize, along with the NWMB, that additional collection and analysis of these data are necessary before a more reliable population estimate can be made. The continuation of the mark-recapture study is anticipated to begin as early as spring of 2002. Except for the Gulf of Boothia population, Nunavut shares the other deferred populations with Greenland, another Canadian province, or both. In addition to meeting the other required criteria, joint management agreements will need to be in place before we can consider approval of these populations.

Why Were the Regulations Revised To Include Nunavut Territory?

This rule affirms the emergency interim rule that, besides restricting the import of polar bears from the M'Clintock Channel population, updated our regulations at 50 CFR 18.30 to reflect that sport hunting of polar bears is legal in both the NWT and Nunavut Territory and that approved populations may now fall under either the GNWT and/or GNUN jurisdiction. Since the publication of the February 18, 1997 (62 FR 7302), and January 11, 1999 (64 FR 1529), final rules, the Nunavut Territory, formerly part of the NWT, officially joined the Federation of Canada on April 1, 1999. Prior to this, legal sport hunting of polar bears in Canada took place only in the NWT; now the majority of polar bear populations lie within or are shared with Nunavut. All GNWT legislative laws and agreements (including the polar bear management agreements) in place still stand in Nunavut. Inter-jurisdictional management agreements are being drafted or revised to reflect the change in government. Management agreements between participating communities and the GNWT and/or the GNUN (formerly part of GNWT), are still in effect for the approved polar bear populations. Management of polar bear populations now falls under the Department of Resources, Wildlife, and Economic Development (formerly the Department of Renewable Resources), GNWT, and/or the Department of Sustainable Development, GNUN.

What Recent Management Changes Has Canada Made for the Viscount Melville Sound Population?

The emergency interim rule also announced that Canada has lifted its 5-year harvest moratorium in the Viscount Melville Sound population effective August 1, 1999. This population was added to the list of populations approved for the import of sport-hunted polar bear trophies in our February 18, 1997 (62 FR 7302), rulemaking, subject to the lifting of the harvest moratorium. The current annual harvest quota is set at 4 bears, with 1 female take allowed.

Why Has the Amendatory Language of 50 CFR 18.30 Changed?

For the reasons given in the emergency interim rule and in this document, we are adopting the substance of the emergency interim rule. However, we are making one, non-substantive change to the amendatory language in the emergency interim rule. When the emergency interim rule was published in the Federal Register on January 10, 2001 (66 FR 1901), language in § 18.30(a)(4)(iv) was inadvertently removed due to a formatting error in the text. We are simply adding back to that paragraph language that should not have been deleted.

Required Determinations

On May 18, 2001, the President issued Executive Order 13211 on regulations that significantly affect energy supply, distribution, and use. Executive Order 13211 requires agencies to prepare Statements of Energy Effects when undertaking certain actions. As this rule is not expected to significantly affect energy supplies, distribution, or use, this action is not a significant energy action and no Statement of Energy Effects is required.

This action also affirms the information concerning the required determinations contained in the emergency interim rule as follows:

In accordance with the criteria in Executive Order 12866, this rule is not a significant regulatory action. The Office of Management and Budget (OMB) makes the final determination under Executive Order 12866.

This rule will not have an annual economic effect of $100 million or adversely affect an economic sector, productivity, jobs, the environment, or other units of government. A cost-benefit and economic analysis is not required. The economic effects of this rule will impact a relatively small number of U.S. sport hunters. Since the trophies are for personal use and may not be sold in the United States, there are no expected market, price, or competitive effects adverse to U.S. business interests, or to any small entity. Some incidental economic benefits received by the travel/airline, taxidermist, and sport-hunting industries are expected to remain unchanged by this interim rule. If an estimated 10 U.S. citizens hunted a polar bear in M'Clintock Channel, Canada, each year at a total cost of $21,000 (US) for each hunt, then $210,000 would be expected to be spent, mostly in Canada. Because the small number of U.S. hunters that hunt for polar bears in M'Clintock Channel, Canada, are the only group affected by this rule, the fact that no commercial activity in bear products is involved, and the effect of such hunts for U.S. outfitters and transportation services is likely to be small, this interim rule is not expected to be a major rule and will not have a significant economic effect.

Although we are amending our import regulations to reflect that bears sport hunted in the M'Clintock Channel population after the close of the 1999/2000 Canadian hunting season will no longer be eligible for import under the 1997 finding which approved this population for multiple harvest seasons, there are 6 other populations, including Viscount Melville Sound, from which U.S. sport hunters will continue to be able to import legally hunted bears. Thus, we expect there will be no substantial loss to U.S. hunters. The revision of our regulations at 50 CFR 18.30 to include the new territory of Nunavut will have no economic effect as we are simply updating our regulations to reflect that populations approved for the import of sport-hunted polar bear trophies may now fall under either GNWT and/or GNUN jurisdiction.

This rule will not create inconsistencies with other agencies' actions. Since 1972, responsibility for implementing the MMPA has been split between two federal agencies. Acting on behalf of the Secretary, Department of the Interior, we have been delegated the MMPA authority for several species of marine mammals, including the polar bear. The National Marine Fisheries Service (NMFS) implements the MMPA authority of the Secretary, Department of Commerce, for whales, dolphins, and most pinnipeds (i.e., seals and sea lions). Currently, there are no special provisions in the MMPA for import of sport-hunted marine mammal species other than polar bear. Since the only federal agencies with authority for marine mammals are the NMFS and us, and the NMFS has not been delegated MMPA authority for this species and does not have any comparable action for other marine mammal species, this rule will not create inconsistencies with that agency's actions.

This rule will not materially affect entitlements, grants, user fees, loan programs, or the rights and obligations of their recipients. The groups most affected by this rule are the relatively small number of U.S. sport hunters who would have chosen to hunt polar bear in the M'Clintock Channel population in Canada, and a comparatively small number of U.S. outfitters, taxidermists, and personnel who provide transportation services for travel from the United States to Canada. The revision of our regulations at 50 CFR 18.30 to include the new territory of Nunavut will have no effect as we are merely updating our regulations to reflect that populations approved for the import of sport-hunted polar bear trophies may now fall under either Government of Northwest Territories and/or Government of Nunavut jurisdiction. Similarly, the announcement of the lifting by Canada of a harvest moratorium in the Viscount Melville Sound population will also have no effect as this population was previously added to the list of populations approved for the import of sport-hunted polar bear trophies in our February 18, 1997 (62 FR 7302), rulemaking, subject to the lifting of the harvest moratorium.

This rule will not raise novel legal or policy issues. This interim rule is limited to the Service's review of new information obtained from Canada on one polar bear population previously approved for issuance of permits to import polar bear trophies personally sport hunted by U.S. residents. Under section 104(c)(5)(A) of the MMPA, before issuing a permit for the import of a polar bear trophy, we must make certain legal and scientific findings. In a previous rule published in 1997 [62 FR 7302], we put the public on notice that if we receive substantial new information on a population, we would review it and make a new finding, if necessary, after consideration of public comment. After reviewing the new information, we find that the M'Clintock Channel population no longer meets the import requirements of the MMPA. Due to the dramatic change in population status, we used an emergency interim rule to make the changes to our regulations effective immediately. The revision of our regulations at 50 CFR 18.30 to include the new territory of Nunavut will also not raise novel legal or policy issues as we are merely updating our regulations to reflect that populations approved for the import of sport-hunted polar bear trophies may now fall under either GNWT and/or GNUN jurisdiction. Similarly, we are merely announcing Canada's lifting of the harvest moratorium in the Viscount Melville Sound population, a population we previously added to the list of populations approved for the import of sport-hunted polar bear trophies in our February 18, 1997 (62 FR 7302), rulemaking, subject to the lifting of the harvest moratorium.

The Department of the Interior certifies that this rule will not have a significant economic effect on a substantial number of small entities as defined under the Regulatory Flexibility Act (5 U.S.C. 601 et seq.). An initial Regulatory Flexibility Analysis is not required. Accordingly, a Small Entity Compliance Guide is not required. Based upon our analysis of the factors identified above, we have determined that no individual industries within the United States will be significantly affected and no changes in the demography of populations are anticipated. This rule involves the import of polar bear trophies for personal, non-commercial use only, and therefore will have no effect on the commercial fur trade market. Polar bear sport hunting is not allowed within the United States. Therefore, sport hunting of polar bears in Canada can have no effect on polar bear sport hunts in the United States since such hunts are currently prohibited. For these reasons, and those described under the E.O. 12866 required determination above, we have, therefore, determined that the rule will not have a significant economic effect on a substantial number of small entities as defined in the Regulatory Flexibility Act, 5 U.S.C. 601 et seq., and have determined that a small entity flexibility analysis study is not necessary.

This rule is not a major rule under 5 U.S.C. 804(2), the Small Business Regulatory Enforcement Fairness Act:

This rule does not have an annual effect on the economy of $100 million or more. The economic effects of this rule will impact a relatively small number of U.S. sport hunters. A total of 50 polar bears have been taken in sport hunts from the M'Clintock Channel between 1995 and 1999 with a range of 5 to 16 bears taken per year; approximately 74% of sport hunters are U.S. citizens. The announcement of the lifting by Canada of a harvest moratorium in the Viscount Melville Sound population will have no economic effect as this population was previously added to the list of populations approved for the import of sport-hunted polar bear trophies in our February 18, 1997 (62 FR 7302), rulemaking, subject to the lifting of the harvest moratorium. Since the trophies are for personal use and may not be sold in the United States, there are no expected market, price, or competitive effects adverse to U.S. business interests, or to any small entity. The revision of our regulations to include the new territory of Nunavut will have no economic effect as we are merely updating our regulations to reflect the change in government jurisdiction for populations approved for the import of sport-hunted polar bear trophies.

This rule will not cause a major increase in costs or prices for consumers, individual industries, Federal, State, or local government agencies, or geographic regions. The importation of polar bear trophies is for personal, non-commercial use only. The small benefits gained by U.S. outfitters and transportation services as U.S. hunters travel to Canada will most likely remain unchanged as most sport hunters will simply redirect their hunting efforts from the M'Clintock Channel to one of the 6 other approved populations. The revision of our regulations to include the new territory of Nunavut will have no effect as we are merely updating our regulations to reflect a change in government jurisdiction.

This rule will not have substantial direct effects on the States, in the relationship between the Federal Government and the States, or on the distribution of power and responsibilities among the various levels of government.

This rule does not have significant adverse effects on competition, employment, investment, productivity, innovation, or the ability of U.S.-based enterprises to compete with foreign-based enterprises. The groups most affected by this rule are the extremely small number of U.S. sport hunters who would have chosen to hunt polar bear in M'Clintock Channel, Canada, and a small number of U.S. outfitters, taxidermists, and personnel who provide transportation services for travel from the United States to Canada. The importation of legally taken sport trophies is still approved for 6 other populations from Canada, including Viscount Melville Sound, and it is anticipated that most sport hunters will simply redirect their hunting efforts to one of the 6 other populations. The revision of our regulations to include the new territory of Nunavut will have no effect as we are merely updating our regulations to reflect a change in government jurisdiction.

In accordance with the Unfunded Mandates Reform Act (2 U.S.C. 1501, et seq.):

This rule will not “significantly or uniquely” affect small governments. A Small Government Agency Plan is not required. This rule is limited to our review of new information obtained from Canada on one polar bear population that we previously approved for issuance of permits to import polar bear trophies personally sport hunted by U.S. residents. We are revising our regulations to include the new territory of Nunavut merely to reflect a change in government jurisdiction.

This rule will not produce a Federal mandate of $100 million or greater in any year, i.e., it is not a “significant regulatory action” under the Unfunded Mandates Reform Act.

In accordance with Executive Order 12630, the rule does not have significant takings implications. A takings implication assessment is not required. We have determined that the rule has no potential takings of private property implications as defined by Executive Order 12630, for the reasons described under the Executive Order 12866 required determination above.

The emergency interim rule placed the hunting community on immediate notice that our 1997 finding that approved the M'Clintock Channel population for multiple harvest seasons was no longer in effect after May 31, 2000, the end of the 1999/2000 Canadian hunting season. If hunters nonetheless took polar bears from this population after the emergency rule was published, they did so with full notice that the M'Clintock Channel population no longer met the eligibility criteria set out in the MMPA for the issuance of import permits.

In accordance with Executive Order 13132, the rule does not have significant Federalism effects. A Federalism assessment is not required since the rule is limited to the importation of personal sport-hunted polar bear trophies for personal (non-commercial) use, only by the person who sport hunted the trophy.

In accordance with Executive Order 12988, the Office of the Solicitor has determined that the rule does not unduly burden the judicial system and meets the requirements of sections 3(a) and 3(b)(2) of the Order. This rule is limited to our review of new information obtained from Canada on one polar bear population previously approved for issuance of permits to import polar bear trophies personally sport hunted by U.S. residents. Under section 104(c)(5)(A) of the MMPA, before issuing a permit for the import of a polar bear trophy, the Service must make certain legal and scientific findings. In a previous rule published in 1997 (62 FR 7302), the Service told the public that the findings that approved populations as published in the CFR are aggregate findings applicable in subsequent years. However, it also put the public on notice that if we receive substantial new information on a population, we would review it and make a new finding after consideration of public comment. After reviewing the new information, we found that M'Clintock Channel no longer met the import requirements of the MMPA and amended our regulations to reflect that bears sport hunted in this population after May 31, 2000, the close of the 1999/2000 Canadian hunting season, would no longer be eligible for import under the 1997 finding which approved this population for multiple harvest seasons. Due to the severe reduction in population, we used an emergency interim rule to make the changes to our regulations effective immediately. At the same time, we solicited comments and considered those comments in issuing a final rule.

This regulation does not contain new or revised information for which OMB approval is required under the Paperwork Reduction Act of 1995 (44 U.S.C. 3501 et seq.). The information collection associated with Federal Fish and Wildlife permits is covered by an existing OMB approval, and is assigned clearance number 1018-0093, Form 3-200-45, with an expiration date of March 31, 2004. Details of the information collection requirements for the import of sport-hunted polar bear trophies appear at Title 50 of the Code of Federal Regulations, Section 18.30(a). We may not conduct or sponsor, and a person is not required to respond to, a collection of information unless it displays a currently valid OMB control number.

We have analyzed this rule in accordance with the criteria of the National Environmental Policy Act. The Department of the Interior has determined that the issuance of this action is categorically excluded under the Department's NEPA procedures in Part 516 of the Department Manual, Chapter 2, Appendix 1.10.

In accordance with the President's memorandum of April 29, 1994, “Government-to-Government Relations with Native American Tribal Governments” (59 FR 22951) and 512 DM 2, we have evaluated possible effects on Federally recognized Indian tribes and have determined that there are no effects. The rule is limited to our review of new information obtained from Canada on the M'Clintock Channel polar bear population. Polar bear sport hunting is not allowed within the United States. Therefore, sport hunting of polar bears in Canada can have no effect on polar bear sport hunts in the United States since such hunts are currently prohibited.

List of Subjects in 50 CFR Part 18

Administrative practice and procedure, Alaska, Imports, Indians, Marine mammals, Oil and gas exploration, Reporting and recordkeeping requirements, Transportation.

Regulation Promulgation

Accordingly, the emergency interim rule amending part 18, subchapter B of chapter I, title 50 of the Code of Federal Regulations and that was published at 66 FR 1901 on January 10, 2001, is adopted as a final rule with the following changes:

PART 18—[AMENDED]

1. The authority citation for part 18 continues to read as follows:

Authority: 16 U.S.C. 1361 et seq.

2. Amend § 18.30 by revising paragraph (a)(4)(iv) to read as follows:

§ 18.30 Polar bear sport-hunted trophy import permits.

(a) * * *

(4) * * *

(iv) A certification from the Department of Resources, Wildlife, and Economic Development, Northwest Territories, or the Department of Sustainable Development, Nunavut Territory, that you or the decedent legally harvested the polar bear, giving the tag number, location (settlement and population), and season you or the decedent took the bear;

* * * * *

Dated: September 4, 2001.
Joseph E. Doddridge,
Acting Assistant Secretary, Fish and Wildlife and Parks, Department of the Interior.

[FR Doc. 01-24947 Filed 10-4-01; 8:45 am]

BILLING CODE 4310-55-P